DEPARTMENT OF TRANSPORTATION

Federal Highway Administration

Environmental Impact Statement: Sherburne and Stearns Counties, MN

AGENCY: Federal Highway Administration (FHWA), DOT.

ACTION: Notice of intent to terminate Tier I EIS.

SUMMARY: The FHWA is issuing this notice to advise the public that the Tier I Environmental Impact Statement (EIS) process for a proposed east/west minor arterial connection between Trunk Highway (TH) 15 and TH 10, including a crossing of the Mississippi River, in an area south of 10th Street South and north of Interstate 94 in the St. Cloud Metropolitan Area, Sherburne and Stearns Counties, Minnesota is terminated. The original Notice of Intent for this Tier I EIS process was published in the Federal Register on December 26, 2002.

FOR FURTHER INFORMATION CONTACT: Cheryl Martin, Environmental and Civil Rights Specialist, Federal Highway Administration, Galtier Plaza, Suite 500, 380 Jackson Street, St. Paul, Minnesota 55101, Telephone (651) 291-6120; or Scott Mareck, Executive Director and Transportation Planning Manager, St. Cloud Area Planning Organization, 1040 County Road Four, St. Cloud, Minnesota 56303, Telephone (320) 252-7568.

SUPPLEMENTARY INFORMATION: The FHWA, in cooperation with the St. Cloud Area Planning Organization and Stearns and Sherburne Counties, has terminated the Tier I EIS process begun in 2002 to address the need for improved east/west minor arterial continuity, land use and trip generation growth, and forecasted 2025 congestion on existing bridges. The purpose of the Tier I EIS was to preserve right of way for the proposed highway improvement, including a crossing of the Mississippi River. The Scoping Decision Document for the project was approved by Stearns and Sherburne Counties on June 14, 2005 and April 21, 2005, respectively. An Amended Scoping Decision Document for the project was approved by Stearns and Sherburne Counties on September 8, 2006 and September 15, 2006, respectively. The conclusion of the Amended Scoping Decision Document was to separate the project into two independent projects by dividing the project at the intersection of Stearns County State Aid Highway (CSAH) 75. The first of these two projects (the 33rd Street Project), will extend from TH 15 easterly along existing 33rd Street South to its junction with CSAH 75. The second project (the Mississippi River Crossing Project) will extend from CSAH 75 easterly to TH 10 in Sherburne County. On October 3, 2006, the St. Cloud Area Planning Organization notified Federal, State and local agencies; interested parties; and the public that work on the 33rd Street Project would proceed as an Environmental Assessment and that the Tier I EIS for the Mississippi River Crossing Project would proceed at an undetermined future date. Therefore, the EIS for this project has been terminated.

(Catalog of Federal Domestic Assistance Program Number 20.205, Highway Planning and Construction. The regulations implementing Executive Order 12372 regarding intergovernmental consultation on Federal programs and activities apply to this program)

Issued on: December 30, 2009.
Cheryl B, Martin,
Environmental and Civil Rights Specialist, Federal Highway Administration, St. Paul, Minnesota.

[FR Doc. E9-31403 Filed 1-6-10; 8:45 am]

BILLING CODE 4910-22-M